GENERAL SERVICES ADMINISTRATION

[OMB Control No. 3090-XXXX; Docket No. 2016-0001; Sequence 10]

Information Collection; Permitting Notice of Initiation

AGENCY: Federal Permitting Improvement Steering Council (FPIC), General Services Administration (GSA).

ACTION: Notice of request for comments regarding a new request for an OMB clearance.

SUMMARY: Under the provisions of the Paperwork Reduction Act, the Regulatory Secretariat Division will be submitting to the Office of Management and Budget (OMB) a request to review and approve a new information collection requirement regarding OMB Control No: 3090-XXXX; Permitting Notice of Initiation.

DATES: Submit comments on or before October 11, 2016.

ADDRESSES: Submit comments identified by Information Collection 3090-XXXX; Permitting Notice of Initiation by any of the following methods:

• Regulations.gov: http://www.regulations.gov. Submit comments via the Federal eRulemaking portal by searching for “Information Collection 3090-XXXX; Permitting Notice of Initiation”. Select the link “Submit a Comment” that corresponds with “Information Collection 3090-XXXX; Permitting Notice of Initiation”. Follow the instructions provided at the “Submit a Comment” screen. Please include your name, company name (if any), and “Information Collection 3090-XXXX; Permitting Notice of Initiation” on your attached document.

• Mail: General Services Administration, Regulatory Secretariat Division (MVCB), 1800 F Street NW., Washington, DC 20405.

Instructions: Please submit comments only and cite Information Collection 3090-XXXX; Permitting Notice of Initiation, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Angela Colamaria, Permitting Team Lead, at telephone 202-395-3708 or via email to PermittingTeam@omb.eop.gov.

SUPPLEMENTARY INFORMATION:

A. Purpose

In December 2015, the Fixing America's Surface Transportation (FAST) Act outlined a set of fundamental requirements designed to change the way federal government agencies carry out their permitting and environmental review responsibilities for major infrastructure projects. Section 41003(a)(1)(A) of the FAST Act states that a “project sponsor of a covered project shall submit to the Executive Director and the facilitating agency notice of the initiation of a proposed covered project.” The statute goes on to describe the required information to be contained in this notice of initiation.

In order to accommodate this statutory requirement, the Federal Permitting Improvement Steering Council (FPISC) has developed the Notice of Initiation form. The information collected via the Notice of Initiation form will be reviewed by the facilitating agency, as identified for the particular type of project under consideration, as well as the Executive Director of the FPISC in order to verify that the project in question qualifies to be considered a “covered project.” If the project outlined in the Notice of Initiation is accepted as a covered project, the project will be added to the online Permitting Dashboard and a series of steps will be taken by the facilitating agency and the Executive Director as outlined in Title XLI of the FAST Act.

B. Annual Reporting Burden

Respondents: 75.

Responses per Respondent: 1.

Total Annual Responses: 75.

Hours per Response: 2.

Total Burden Hours: 150.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 3090-XXXX, Permitting Notice of Initiation, in all correspondence.

Dated: July 29, 2016.
David A. Shive,
Chief Information Officer.

[FR Doc. 2016-18796 Filed 8-8-16; 8:45 am]

BILLING CODE 6820-FM-P